DEPARTMENT OF JUSTICE

Antitrust Division

Notice Pursuant to the National Cooperative Research and Production Act of 1993—Members of SGIP 2.0, Inc.

Notice is hereby given that, on May 23, 2014, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, SmartCloud, Inc., Bedford, MA; Lansing Board of Water and Light, Lansing, MI; LocalGrid Technologies, Mississauga, Ontario, CANADA; Maryland Public Service Commission, Baltimore, MD; Upperbay Systems, Franklin, MA; and Kladar Virtual Automation Ltd., Calgary, Alberta, CANADA, have been added as parties to this venture.

Also, iWire365, Garland, TX; Navigant Consulting, Rensselaer, NY; Samsung Telecommunications America, Richardson, TX; ThinkSmartGrid, Moffett Field, CA; Stroz Freidberg, LLC, New York, NY; Virginia State Corporation Commission, Richmond, VA; Lockheed Martin, Gaithersburg, MD; Alcatraz Energy, Boulder, CO; Grid Net, San Francisco, CA; Controlco, Oakland, CA; Lutron Electronics Co., Inc., Coopersburg, PA; Patrick M Duggan Enterprises, Inc., Valley Cottage, NY; Yokogawa Electric Corporation, Tokyo, JAPAN; Reliant Energy Retail Services, Inc., Houston, TX; and IONEX Energy Storage Systems, Inc., Austin, TX, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on March 11, 2014. A notice was published in the Federal Register pursuant to Section 6(b) of the Act on April 15, 2014 (79 FR 21289).

Patricia A. Brink,
Director of Civil Enforcement, Antitrust Division.

[FR Doc. 2014-14304 Filed 6-18-14; 8:45 am]

BILLING CODE P